DEPARTMENT OF TRANSPORTATION

National Highway Traffic Safety Administration

[Docket No. NHTSA-2022-0031]

Agency Information Collection Activities; Submission to the Office of Management and Budget for Review and Approval; Fatality Analysis Reporting System and Non-Traffic Surveillance

AGENCY: National Highway Traffic Safety Administration (NHTSA), Department of Transportation (DOT).

ACTION: Notice and request for comments on an extension with modification of a currently approved information collection.

SUMMARY: In compliance with the Paperwork Reduction Act of 1995 (PRA), this notice announces that the Information Collection Request (ICR) abstracted below will be submitted to the Office of Management and Budget (OMB) for review and approval. The ICR describes the nature of the information collection and its expected burden. This document describes a currently approved collection of information for which NHTSA intends to seek approval from OMB for extension on NHTSA's State data reporting systems: Fatality Analysis Reporting System (FARS) and Non-Traffic Surveillance (NTS). A Federal Register Notice with a 60-day comment period soliciting comments on the following information collection was published on April 4, 2022. Three supporting comments were received.

DATES: Comments must be submitted on or before August 19, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Barbara Rhea, State Data Reporting Systems Division (NSA-120), (202) 366-2714, National Highway Traffic Safety Administration, Room W53-304, U.S. Department of Transportation, 1200 New Jersey Avenue SE, Washington, DC 20590. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted to OMB.

A Federal Register notice with a 60-day comment period soliciting public comments on the following information collection was published on April 04, 2022 (87 FR 19573).

Title: Fatality Analysis Reporting System and Non-Traffic Surveillance.

OMB Control Number: 2127-0006.

Form Number: N/A.

Type of Request: Request for extension of a currently approved information collection.

Type of Review Requested: Regular.

Length of Approval Requested: Three years from date of approval.

Summary of the Collection of Information

NHTSA is authorized by 49 U.S.C. 30182 and 23 U.S.C. 403 to collect data on motor vehicle traffic crashes to aid in the identification of issues and the development, implementation, and evaluation of motor vehicle and highway safety countermeasures to reduce fatalities and the property damage associated with motor vehicle crashes. Using this authority, NHTSA established the Fatal Analysis Reporting System (FARS) and the Non-Traffic Surveillance (NTS), which collect data on fatal motor vehicle traffic crashes. Among other things, the information aids in the establishment and enforcement of motor vehicle regulations and highway safety programs.

The FARS is in its forty-sixth year of operation and is a census of all defined crashes involving fatalities. The FARS collects data from all 50 States, the District of Columbia, and Puerto Rico. NHTSA established cooperative agreements with the 50 States, the District of Columbia and Puerto Rico to report a standard set of data on each fatal crash within their jurisdictions. State employees extract and transcribe information from existing State files including police crash reports as well as driver license, vehicle registration, highway department, and vital statistics files. This collected information comprises a national database, Fatality Analysis Reporting System (FARS), that is NHTSA's and many States' principal means of tracking trends involving motor vehicle traffic fatalities and quantifying problems or potential problems in highway safety.

The Non-Traffic Surveillance (NTS) is a data collection effort for collecting information about counts and details regarding fatalities and injuries that occur in non-traffic crashes and non-crash incidents. Non-traffic crashes are crashes that occur off a public trafficway (e.g., private roads, parking lots, or driveways), and non-crash incidents are incidents involving motor vehicles but without a crash scenario such as, carbon monoxide poisoning and hypo/hyperthermia. NTS non-traffic crash data are obtained through NHTSA's data collection efforts for the Crash Report Sampling System (CRSS),¹ the Crash Investigation Sampling System (CISS),² and FARS. NTS also includes data outside of NHTSA's own data collections. NTS' non-crash injury data is based upon emergency department records from a special study conducted by the Consumer Product Safety Commission's National Electronic Injury Surveillance System (NEISS) All Injury Program. NTS non-crash fatality data is derived from death certificate information from the Centers for Disease Control's National Vital Statistics System.

¹ NHTSA's information collection for CRSS is covered by the ICR with OMB Control No. 2127-0714.

² NHTSA's information collection for CISS is covered by the ICR with OMB Control No. 2127-0706.

Data is collected differently under each of NHTSA's three data collection efforts that feed into NTS. The CRSS and CISS data collection efforts obtain NTS applicable reports received from the sample sites during their normal data collection efforts for CRISS and CISS. The FARS data collection effort uncovers NTS applicable reports received from the State during their normal data collection activities for FARS. Therefore, the burden for NTS is included in each study's calculation. This notice only seeks comment on the part of the NTS data that comes from the FARS data collection effort.

Description of the Need for the Information and Proposed Use of the Information

NHTSA's mission is to save lives, prevent injuries, and reduce economic losses resulting from motor vehicle crashes. To accomplish this mission, NHTSA needs high-quality data on motor vehicle crashes to identify primary factors related to the source of crashes and injury outcomes. The FARS supports this mission by providing the agency with vital information about all crashes involving fatalities that occur on our nation's roadways. The FARS does this by collection of national fatality information directly from existing State files and documents and aggregates that information for research and analysis.

FARS data is used extensively by all the NHTSA program and research offices, other DOT modes, States, and local jurisdictions. The highway research community uses the FARS data for trend analysis, problem identification, and program evaluation. Congress uses the FARS data for making decisions concerning safety programs. The FARS data are also available upon request to anyone interested in highway safety.

60-Day Notice

NHTSA published a 60-day notice in the Federal Register on April 4, 2022 (87 FR 19573). NHTSA received three supporting comments from the National Association of Mutual Insurance Companies (NAMIC), the Oklahoma Department of Transportation, and Safe Kids Worldwide. NAMIC emphasizes that the proposed data collection is necessary and appropriate and believes that the information surveyed will have significant practical utility. Furthermore, NAMIC supports this initiative to better understand and improve highway and auto safety, as well as inform policy development and other decision making. The Oklahoma DOT acknowledges the great role the FARS plays in compiling information that helps it develop plans to reduce occurrences of fatalities. The Oklahoma DOT also believes NHTSA's estimate of burden to be valid, and believes that, as technology progresses, the burden could be minimized while the system is enhanced. Safe Kids Worldwide asserts the importance of the FARS/NTS programs to NHTSA's mission and the broader safety community and that it is an incredibly robust and valuable system for research purposes. Safe Kids Worldwide suggests inclusion of more detailed information be available through the online query and more detailed coding for train-related injuries.

FARS is an on-going data acquisition system; reviews are conducted yearly to determine whether the data acquired are responsive to the total user population needs. Annual changes in the data collected in FARS are minor in terms of operation and method of data acquisition. The changes do not affect the reporting burden of the respondent. In fact, the changes are based on a continuous data collection and quality improvement process. The changes usually involve clarifying adjustments to aid statisticians in conducting more precise analyses and to remove potential ambiguity for the respondents. As part of this continual review process, NHTSA will consider Safe Kids Worldwide's suggestion regarding making more FARS data available through NHTSA's online query tool. NHTSA will also separately consider Safe Kids Wordwide's suggestion to include more detailed coding for train-related injuries and fatalities at railroad crossings.

Burden to Respondents

NHTSA has established cooperative agreements with the 50 States, the District of Columbia, and Puerto Rico to report a standard set of data on each fatal crash in their jurisdictions. State respondents report based on the occurrence of crashes involving fatalities. When a fatal crash occurs, State employees extract and transcribe information from existing files and input the information into FARS, with the frequency of reporting determined by the frequency of fatal crashes occurring in the respondent's jurisdiction. NHTSA continues to estimate, as stated in the 60-day notice, that there will be 52 data collection sites in each of the next three years with a total annual burden of 107,209 hours and $0 for the two information collections.

Program: FARS and NTS.

Affected Public: States, the District of Columbia, and Puerto Rico.

Estimated Number of Respondents: 52.

Frequency: On Occasion.

Estimated Total Annual Burden Hours: 107,209 hours (106,909 hours + 300 hours).

NHTSA estimates the total annual burden for the two information collections, FARS and NTS, is 107,209 hours per year. The hours and costs associated with the burden reflect the complexity of coding the FARS cases, an increase in the number of fatal crashes across most jurisdictions, and accounting for the processing of the non-traffic fatalities. Furthermore, over the past two years, there has been an increase in staff turnover at the State level, adding an increase in administrative hours to provide for State field personnel turnover, training, and coding assistance to continue operations.

For both FARS and NTS, there are 52 respondents (50 States, the District of Columbia, and Puerto Rico) reporting on approximately 34,817 fatal crash cases per year. Of these cases, 34,232 are reported to FARS and approximately 585 are identified and reported as non-traffic fatal crashes (NTS).

The State employee (or employees depending on the number of fatal crashes per year occurring in the jurisdiction) acquires and codes the required information, as fatal crashes occur, in the FARS records-based system. For FARS, although there is only one information collection, NHTSA calculates the total burden using four burden categories: (1) FARS Manual Protocol Case Entry, (2) overhead burden for FARS in States without EDT, (3) FARS coding in States with EDT, and (4) FARS EDT mapping maintenance.

FARS Manual Protocol Case Entry

NHTSA estimates that there are currently 33 States providing crash reports (including case materials) via manual protocol. For these respondents, NHTSA estimates that it takes analysts approximately 4.25 hours to collect fatal crash information and code a FARS case entry in the FARS data entry system. This estimate is based on information, over a five-year period, of the average number of analysts, full- and part-time, back-up analysts, FARS supervisors, and coding assistance respondents needed to complete an annual FARS file. NHTSA estimates that, on average, 16,205 cases are collected and coded annually using this access method. Therefore, NHTSA estimates the total annual burden associated with FARS Manual Protocol case entry to be approximately 68,871 hours annually (16,205 cases × 4.25 hours = 68,871 hours).

FARS Manual Protocol In-Kind Process Support

In addition to the time for each crash entry, some respondents using the FARS Manual Protocol are also expected to incur overhead burden time. NHTSA estimates that 8 States provide overhead support and that the total annual burden for this support is 2,000 hours, or an average of 250 hours per respondent. This burden includes hours spent by supervisors and State managers responding to and supporting FARS operations that are not accounted for in the coding hours every year, including supporting data acquisition and other associated tasks.

FARS EDT Mapping Maintenance

NHTSA estimates that there are approximately 19 States already participating in Electronic Data Transfer (EDT). For these respondents, PAR data is automatically transferred from the State's centralized crash database to NHTSA's CDAN system. The crash data is then prepopulated in NHTSA's crash data systems, including FARS.

NHTSA estimates the burden to maintain the protocol is estimated at two hours per State (respondent) or a total of 38 hours per year (19 States × 2 hours). This represents time to monitor case quality and timeliness, conduct quality control processes, and maintain communications with NHTSA and its contractors to ensure accurate data transfer. The specific task associated with this maintenance of effort is referred to as “mapping”. Upon becoming an EDT State, the respondent participates in an initial mapping process. The process requires an alignment between the State Specific Coding Instructions and the FARS Coding and Validation guidance.³ During quality control processes, which are conducted year-round, data anomalies may be detected, at which time action must be taken to review and ultimately correct the shifts in the data. This process, while managed by the Office of Data Acquisition, requires concurrence from the respondent, which is what the burden represents.

³ The burden associated with this task is accounted for under NHTSA ICR that covers EDT (OMB Control Number 2127-0753).

FARS EDT Manual Case Entry for Supporting Case Materials

Participation in EDT reduces but does not eliminate the manual entry of data into FARS. Although information from PARs is pre-populated into the system, EDT State respondents must still collect and enter supporting case materials, such as driver records, toxicology reports, death certificate information, and coroner's/medical examiners reports to complete a FARS case. NHTSA estimates that completing each case entry in an EDT States takes 2 hours, which is slightly less than half the time the process is estimated to take for non-EDT States. On average, NHTSA estimates that 18,000 FARS cases will have pre-populated data. Accordingly, NHTSA estimates the total burden associated with completing the FARS case entries for these cases to be 36,000 hours (18,000 cases × 2 hours).

Total Burden for FARS

The collective and cumulative efforts of all 52 respondents results in an estimated annual burden of 106,909 hours (68,871 hours + 2,000 hours + 38 hours + 36,000 hours). Table 1 provides a summary of the burden associated with FARS.

Table 1—Burden Category Estimates and Total Burden for FARS
Burden category | Cases processed | Participating respondents | Burden per response | Hours per respondent | Total (hours)
FARS EDT (mapping maintenance) | 19 | 19 | N/A | 2 | 38
FARS EDT Manual Case Entry (supporting case materials) | 18,000 | 19 | 2.00 | 1,895 | 36,000
FARS Manual Protocol Case Entry Process (including supporting case materials) | 16,205 | 33 | 4.25 | 2,087 | 68,871
FARS Manual Protocol In-kind Process Support | 8 | 8 | N/A | 250 | 2,000
Total | 34,232 | 52 | 3.13 | 2,056.94 | 106,909

NTS Data Collection

Non-traffic fatal crashes are collected by approximately 25 States as part of the FARS data collection process. NHTSA estimates that it takes twelve hours per respondent annually to account for NTS cases. Therefore, NHTSA estimates that the total burden for NTS case identification and coding is 300 hours annually (25 respondents × 12 hours).

Burden for FARS and NTS

NHTSA estimates the total annual burden for the two information collections, FARS and NTS, is 107,209 hours per year (106,909 hours + 300 hours). Table 2 provides a summary of the burdens for the two information collections.

Table 2—Summary of Burden Hour Estimates
Information collection | Responses | Respondents | Burden per response (hours) | Hours per respondent | Total burden (hours)
FARS | 34,232 | 52 | 3.13 | 2,056.94 | 106,909
NTS | 585 | 25 | 0.5 | 12 | 300
Total | 34,817 | 52 |  |  | 107,209

Estimated Total Annual Burden Cost All Programs: $0.

NHTSA estimates that there are no costs to respondents other than costs associated with burden hours. There are no capital, start-up, or annual operation and maintenance costs involved in this collection of information. The respondents would not incur any reporting costs from the information collection beyond the opportunity or labor costs associated with the burden hours. The respondents also would not incur any recordkeeping burden or recordkeeping costs from the information collection.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. Chapter 35, as amended; 49 CFR 1.49; and DOT Order 1351.29.

Chou Lin Chen,
Associate Administrator, National Center for Statistics and Analysis.

[FR Doc. 2022-15412 Filed 7-19-22; 8:45 am]

BILLING CODE 4910-59-P